DEPARTMENT OF HEALTH AND HUMAN SERVICES

Administration for Children and Families

Submission for OMB Review; Comment Request

Title: Measurement Development: Quality of Caregiver-Child Interactions for Infants and Toddlers (Q-CCIIT).

OMB No.: New Collection.

Description: The Office of Planning, Research and Evaluation (OPRE), Administration for Children and Families (ACF), U.S. Department of Health and Human Services (HHS), is proposing to develop a new observation measure to assess the quality of child care settings, specifically the quality of caregiver-child interaction for infants and toddlers in nonparental care. The measure will be appropriate for use across child care settings, center-based and family child care settings as well as single- and mixed-age classrooms.

The two-year data collection activity will include two phases: (1) A pilot test and (2) a psychometric field test. We will request information about the child care setting, its classrooms and families for recruitment into the study. Information will be collected through observations, focus groups, and questionnaires.

In the pilot and field tests, the new Q-CCIIT observation measure will include observing a small group activity structured with a common task and asking follow-up observation questions. Caregivers observed will also complete a background questionnaire. Focus groups to obtain stakeholder input on caregiver-child interactions will be conducted separately with parents, caregivers, and training and technical assistance providers. Focus group participants will also complete a demographic questionnaire. Parents of children served by caregivers will complete a questionnaire on their child's competencies related to cognitive, language/communication, and social-emotional development. Parents will complete this questionnaire, which will also include family and child characteristics, once in the pilot test and twice in the field test, at the start of the field test and 6 months later to assess growth.

The purpose of this data collection is to support the 2007 reauthorization of the Head Start program (Pub. L. 110-134), which calls for periodic assessments of Head Start's quality and effectiveness.

Respondents: Child care setting representatives (directors or owners), caregivers (center-based and family child care settings), parents of children in those child care settings, and training and technical assistance providers.

Annual Burden Estimates

Instrument | Annual number of respondents | Number of responses per respondent | Average burden hour per response | Estimated annual burden hours
1. Child care setting recruitment form | 190 | 1 | 0.5 | 95
2. Q-CCIIT measure-small group activity and follow-up | 290 | 1 | 0.25 | 73
3. Caregiver background questionnaire | 520 | 1 | 0.25 | 130
4. Focus group interview guide | 20 | 1 | 1.90 | 38
5. Parent focus group demographic questionnaire | 10 | 1 | 0.10 | 1
6. Caregiver focus group demographic questionnaire | 5 | 1 | 0.10 | 1
7. Training and technical assistance provider focus group demographic questionnaire | 5 | 1 | 0.10 | 1
8. Parent-report child competence questionnaire | 880 | 2 | 0.75 | 1,320
Estimated total annual burden hours: |  |  |  | 1,659

Additional Information

Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget Paperwork Reduction Project Fax: 202-395-6974.

Attn: Desk Officer for the Administration for Children and Families.

Dated: May 17, 2011.
Steven Hanmer,
OPRE Reports Clearance Officer.

[FR Doc. 2011-12669 Filed 5-24-11; 8:45 am]

BILLING CODE 4184-22-M